ENVIRONMENTAL PROTECTION AGENCY

[EPA-R07-OPPT-2010-0155; FRL-9128-4]

Lead-Based Paint Renovation, Repair and Painting Activities in Target Housing and Child Occupied Facilities; State of Iowa. Notice of Self-Certification Program Authorization, Request for Public Comment, Opportunity for Public Hearing

AGENCY: Environmental Protection Agency (EPA).

ACTION: Notice; program authorization, request for comments and opportunity for public hearing.

SUMMARY: This notice announces that on January 19, 2010, the State of Iowa was deemed authorized under section 404(a) of the Toxic Substances Control Act (TSCA), 15 U.S.C. 2684(a), and 40 CFR 745.324(d)(2), to administer and enforce requirements for a renovation, repair and painting program in accordance with section 402(c)(3) of TSCA, 15 U.S.C. 2682(c)(3). This notice also announces that EPA is seeking comment during a 45-day public comment period, and is providing an opportunity to request a public hearing within the first 15 days of this comment period, on whether Iowa's program is at least as protective as the Federal program and provides for adequate enforcement. This notice also announces that the authorization of the Iowa 402(c)(3) program, which was deemed authorized by regulation and statute on January 19, 2010, will continue without further notice unless EPA, based on its own review and/or comments received during the comment period, disapproves the Iowa program application on or before July 19, 2010.

DATES: Comments, identified by docket control number EPA-R07-OPPT-2010-0155, must be received on or before May 3, 2010. In addition, a public hearing request must be submitted on or before April 2, 2010.

ADDRESSES: Comments, and requests for a public hearing, may be submitted by mail, electronically, or in person. Please follow the detailed instructions for each method as provided in Section I of the SUPPLEMENTARY INFORMATION. To ensure proper receipt by EPA, it is imperative that you identify docket control number EPA-R07-OPPT-2010-0155 in the subject line on the first page of your response.

FOR FURTHER INFORMATION CONTACT: Crystal McIntyre, Technical Contact, Toxics and Pesticides Branch, Water, Wetlands, and Pesticides Division, Environmental Protection Agency, Region 7, 901 N. 5th Street, Kansas City, KS 66101, telephone number: (913) 551-7261; e-mail address: mcintyre.crystal@epa.gov.

SUPPLEMENTARY INFORMATION:

General Information

A. Does This Action Apply to Me?

This action is directed to the public in general, to entities offering Lead Safe Renovation courses, and to firms and individuals engaged in renovation and remodeling activities of pre-1978 housing in the State of Iowa. Individuals and firms falling under the North American Industrial Classification System (NAICS) codes 231118, 238210, 238220, 238320, 531120, 531210, 53131, e.g., General Building Contractors/Operative Builders, Renovation Firms, Individual Contractors, and Special Trade Contractors like Carpenters, Painters, Drywall workers and Plumbers, “Home Improvement” Contractors, as well as Property Management Firms and some Landlords are also affected by these rules. This listing is not intended to be exhaustive, but rather provides a guide for readers regarding entities likely to be affected by this action. Other types of entities not listed in this notice could also be affected. The NAICS codes have been provided to assist you and others in determining whether this action might apply to certain entities. If you have any questions regarding the applicability of this action to a particular entity, consult the technical person listed under FOR FURTHER INFORMATION CONTACT.

B. How Can I Get Additional Information, Including Copies of this Document or Other Related Documents?

1. Electronically: EPA has established an official record for this action under docket control number EPA-R07-OPPT-2010-0155. This docket may be accessed through http://www.regulations.gov. The official record consists of the documents specifically referenced in this action, this notice, the State of Iowa 402(c)(3) program authorization application, any public comments received during an applicable comment period, and other information related to this action, including any information claimed as Confidential Business Information (CBI).

2. In person: You may read this document, and certain other related documents, by visiting Iowa Department of Public Health, 321 E. 12th Street, Des Moines, IA 50319-0075; contact person, Rita Gergely, telephone number (515) 242-6340. You may also read this document, and certain other related documents, by visiting the Environmental Protection Agency, Region 7, 901 N. 5th Street, Kansas City, KS 66101. You should arrange your visit to the EPA office by contacting the technical person listed under FOR FURTHER INFORMATION CONTACT.

C. How and to Whom Do I Submit Comments?

You may submit comments through the mail, in person, or electronically. To ensure proper receipt by EPA, it is imperative that you identify docket control number EPA-R07-OPPT-2010-0155 in the subject line on the first page of your response.

1. By mail or in person or by courier: Submit or deliver your comments and public hearing requests to: Crystal McIntyre, Technical Contact, Toxics and Pesticides Branch, Water, Wetlands, and Pesticides Division, Environmental Protection Agency, Region 7, 901 N. 5th Street, Kansas City, KS 66101. The Regional office is open from 8 a.m. to5 p.m., Monday through Friday, excluding legal holidays.

2. Electronically: You may submit your comments and public hearing requests electronically by e-mail to: mcintyre.crystal@epa.gov or mail your computer disk to the address identified above. Do not submit any information electronically that you consider to be Confidential Business Information (CBI). Electronic comments must be submitted as an ASCII file avoiding the use of special characters and any form of encryption. Comments and data will also be accepted on standard disks in Microsoft Word or ASCII file format.

D. How Should I Handle CBI Information That I Want to Submit to the Agency?

Do not submit this information to EPA through regulations.gov or e-mail. Clearly mark on each page the part or all of the information that you claim to be CBI. For CBI information in a disk or CD-ROM that you mail to EPA, mark the outside of the disk or CD-ROM that you mail to EPA as CBI, and then identify electronically within the disk or CD-ROM the specific information that is claimed as CBI. In addition to one complete version of the comment that includes information claimed as CBI, a copy of the comment that does not contain the information claimed as CBI must be submitted for inclusion in the public docket. Information so marked as CBI will not be disclosed except in accordance with procedures set forth in 40 CFR part 2. If you have any questions about CBI or the procedures for claiming CBI, please consult the technical person identified under FOR FURTHER INFORMATION CONTACT.

II. Background

A. What Action Is the Agency Taking?

EPA is announcing that on January 19, 2010, the State of Iowa was deemed authorized under section 404(a) of TSCA, and 40 CFR 745.324(d)(2), to administer and enforce requirements for a renovation, repair and painting program in accordance with section 402(c)(3) of TSCA. This notice also announces that EPA is seeking comment and providing an opportunity to request a public hearing on whether the State program is at least as protective as the Federal program and provides for adequate enforcement. The 402(c)(3) program ensures that training providers are accredited to teach renovation classes, that individuals performing renovation activities are properly trained and certified as renovators, that firms are certified as renovation firms, and that specific work practices are followed during renovation activities. On January 19, 2010, Iowa submitted an application under section 404 of TSCA requesting authorization to administer and enforce requirements for a renovation, repair and painting program in accordance with section 402(c)(3) of TSCA, and submitted a self-certification that this program is at least as protective as the Federal program and provides for adequate enforcement. Therefore, pursuant to section 404(a) of TSCA, and 40 CFR 745.324(d)(2), the Iowa renovation program is deemed authorized as of the date of submission and until such time as the Agency disapproves the program application or withdraws program authorization. Pursuant to section 404(b) of TSCA and 40 CFR 745.324(e)(2), EPA is providing notice, opportunity for public comment and opportunity for a public hearing on whether the State program application is at least as protective as the Federal program and provides for adequate enforcement. If a hearing is requested and granted, EPA will issue a Federal Register notice announcing the date, time and place of the hearing. The authorization of the Iowa 402(c)(3) program, which was deemed authorized by regulation and statute on January 19, 2010, will continue without further notice unless EPA, based on its own review and/or comments received during the comment period, disapproves the program application on or before July 19, 2010.

B. What Is the Agency's Authority for Taking This Action?

On October 28, 1992, the Housing and Community Development Act of 1992, Public Law 102-550, became law. Title X of that statute was the Residential Lead-Based Paint Hazard Reduction Act of 1992. That Act amended TSCA (15 U.S.C. 2601 et seq.) by adding Title IV (15 U.S.C. 2681-2692), entitled Lead Exposure Reduction. In the Federal Register dated April 22, 2008 (73 FR 21692), EPA promulgated final TSCA section 402(c)(3) regulations governing renovation activities. The regulations require that in order to do renovation activities for compensation, renovators must first be properly trained and certified, must be associated with a certified renovation firm, and must follow specific work practice standards, including recordkeeping requirements. In addition, the rule prescribes requirements for the training and certification of dust sampling technicians. EPA believes that regulation of renovation activities will help to reduce the exposures that cause serious lead poisonings, especially in children under age 6, who are particularly susceptible to the hazards of lead.

Under section 404 of TSCA, a state may seek authorization from EPA to administer and enforce its own renovation, repair and painting program in lieu of the Federal program. The regulation governing the authorization of a state program under section 402 of TSCA is codified at 40 CFR part 745, subpart Q. States that choose to apply for program authorization must submit a complete application to the appropriate regional EPA office for review. Those applications will be reviewed by EPA within 180 days of receipt of the complete application. To receive EPA approval, a state must demonstrate that its program is at least as protective of human health and the environment as the Federal program, and provides for adequate enforcement, as required by section 404(b) of TSCA. EPA's regulations at 40 CFR part 745, subpart Q provide the detailed requirements a state program must meet in order to obtain EPA approval. A state may choose to certify that its own renovation, repair and painting program meets the requirements for EPA approval, by submitting a letter signed by the Governor or Attorney General stating that the program is at least as protective of human health and the environment as the Federal program and provides for adequate enforcement. Upon submission of such a certification letter the program is deemed authorized pursuant to TSCA section 404(a) and 40 CFR 745.324(d)(2). This authorization becomes ineffective, however, if EPA disapproves the application or withdraws the program authorization.

III. State Program Description Summary

The following program summary is from Iowa's self-certification application:

Program Summary, State of Iowa, Renovation, Repair, and Painting Program/Lead-Safe Renovator Certification Program.

The state of Iowa is submitting an application to the U.S. Environmental Protection Agency (EPA) certifying that the state's Renovation, Repair, and Painting Program/Lead-Safe Renovator Program is as protective as the EPA program and is authorized when the application is submitted to EPA. The Iowa Department of Public Health (IDPH) is the lead agency for these programs. IDPH currently has EPA-authorized programs for lead-based paint activities training and certification and pre-renovation notification.

The rules for the Renovation, Repair, and Painting Program/Lead-Safe Renovator Program are found in641—Chapter 70 of the Iowa Administrative Code. The amendments to this chapter that contain these requirements are effective on January 13, 2010. These rules already cover all lead-based paint activities that are conducted in target housing and child-occupied facilities:

1. Establish the discipline of lead-safe renovator.

2. Establish work practice requirements for renovation.

3 Require persons and firms that conduct these activities to be certified by April 22, 2010. To be certified, persons must complete an approved training program, apply for certification, and pay a fee of $60 per year. Firms must employ at least one certified lead-safe renovator and must apply for certification.

4. Establish procedures for the suspension, revocation, or modification of certifications.

5. Establish requirements for the approval of lead-safe renovator training programs and procedures for the suspension, revocation, or modification of training program approvals.

6. Define violations of these rules, establish procedures to assess penalties for violations of these rules, and establish administrative procedures for persons or firms to appeal these penalties.

The legal authority for the renovation, repair, and painting program/lead-safe renovator certification is found in Code of Iowa 135.105A.

IV. Federal Overfiling

Section 404(b) of TSCA makes it unlawful for any person to violate, or fail or refuse to comply with, any requirement of an approved state program. Therefore, EPA reserves the right to exercise its enforcement authority under TSCA against a violation of, or a failure or refusal to comply with, any requirement of an authorized state program.

V. Withdrawal of Authorization

Pursuant to section 404(c) of TSCA, the EPA Administrator may withdraw authorization of a State or Indian Tribal renovation, repair and painting program, after notice and opportunity for corrective action, if the program is not being administered or enforced in compliance with standards, regulations, and other requirements established under the authorization. The procedures EPA will follow for the withdrawal of an authorization are found at 40 CFR 745.324(i).

List of Subjects

Environmental protection, Hazardous substances, Lead, Renovation, Renovation work practice standards, Renovation training, Renovation certification, Renovation notification, Reporting and recordkeeping requirements, State of Iowa.

Dated: March 9, 2010.
Karl Brooks,
Regional Administrator, Region 7.

[FR Doc. 2010-5967 Filed 3-17-10; 8:45 am]

BILLING CODE 6560-50-P